DEPARTMENT OF THE INTERIOR

National Park Service

Native American Graves Protection and Repatriation Review Committee Findings and Recommendations Regarding Human Remains and Associated Funerary Objects from Spirit Cave in Nevada

AGENCY: National Park Service, Interior.

ACTION: Native American Graves Protection and Repatriation Review Committee: Findings and Recommendations.

After full and careful consideration of the information and statements submitted by the Fallon Paiute-Shoshone Tribe and the U.S. Department of the Interior, Bureau of Land Management, Nevada State Office, and evidence presented by representatives of the Fallon Paiute-Shoshone Tribe at the November 17-19, 2001, meeting of the Native American Graves Protection and Repatriation Review Committee (review committee), six out of the seven review committee members find that the preponderance of the evidence indicates a relationship of shared group identity which can be reasonably traced between the present day Fallon Paiute-Shoshone Tribe and the human remains and associated funerary objects from Spirit Cave in Nevada.

This set of human remains, currently under the control of the Nevada State Office, consists of a mummified skeleton and associated funerary objects identified as “Burial Number 2,” excavated by S.M. Wheeler and Georgia N. Wheeler in 1940 from Spirit Cave, Nevada.

During its November 17-19, 2001, meeting, the review committee considered a dispute brought by the Fallon Paiute-Shoshone Tribe against the Nevada State Office. The issues leading to the dispute were as follows:

1. On June 26, 2000, the Nevada State Office determined that human remains from Spirit Cave in Nevada (Spirit Cave remains), were not culturally affiliated with any modern individual, Indian tribe, or other group; and

2. The Fallon Paiute-Shoshone Tribe disputed the Nevada State Office’s determination, and asked the review committee to review and make findings related to:

a. The cultural affiliation of certain Native American human remains and associated funerary objects removed from Spirit Cave in Nevada (specifically that, despite some gaps in the record, there is compelling evidence to support the Fallon Paiute-Shoshone Tribe’s claim of cultural affiliation with the early Holocene occupants of the western Great Basin, including the Spirit Cave remains); and

b. The return of such human remains and objects to the Fallon Paiute-Shoshone Tribe.

The review committee reviewed documents provided by the Fallon Paiute-Shoshone Tribe and the Nevada State Office, and heard oral presentations by individuals on behalf of the Fallon Paiute-Shoshone Tribe regarding the cultural affiliation of Native American human remains from Spirit Cave in Nevada.

After full and careful consideration of the provided information by all review committee members, six out of the seven review committee members find that:

1. The review committee does not believe that the Nevada State Office has given fair and objective consideration and assessment of all the available information and evidence in this case; and

2. The review committee finds that the preponderance of the evidence indicates a relationship of shared group identity which can be reasonably traced between the present-day Fallon Paiute-Shoshone Tribe and the human remains and associated funerary objects from Spirit Cave in Nevada.

Based on these findings, the review committee, by a six to one vote, recommends that the Nevada State Office repatriate the Spirit Cave human remains and associated funerary objects to the Fallon Paiute-Shoshone Tribe.

The review committee directed the Designated Federal Official to communicate its findings on this dispute to the representatives of the two affected parties, the Fallon Paiute-Shoshone Tribe and the Nevada State Office, as well as other appropriate officials within the Department of the Interior.

The Native American Graves Protection and Repatriation Act directs the Secretary of the Interior to establish and maintain an advisory committee composed of seven private citizens nominated by Indian tribes, Native Hawaiian organizations, and national museum organizations and scientific organizations (25 U.S.C. 3006). The responsibilities of the review committee include reviewing and making findings related to the identity or cultural affiliation of Native American human remains or other cultural items, or to the return of human remains or other cultural items; and facilitating the resolution of disputes among Indian tribes, Native Hawaiian organizations, or lineal descendants and Federal agencies or museums relating to the return of human remains and other cultural items.

This notice is published as part of the National Park Service’s administrative responsibilities under NAGPRA, 25 U.S.C. 3006 (g). These findings and recommendations do not necessarily represent the views of the National Park Service or Secretary of the Interior. The National Park Service and the Secretary of the Interior have not taken a position on these matters.

Dated: March 13, 2002.
Armand Minthorn,
Chair, Native American Graves Protection and Repatriation Review Committee.

[FR Doc. 02-8577 Filed 4-9-02; 8:45 am]

BILLING CODE 4310-70-S